DEPARTMENT OF DEFENSE

Department of the Navy

Notice of Public Hearings for the Naval Surface Warfare Center Panama City Division (NSWC PCD) Mission Activities Draft Environmental Impact Statement/Overseas Environmental Impact Statement

AGENCY: Department of the Navy, DoD.

ACTION: Notice.

SUMMARY: Pursuant to section 102(2)(c) of the National Environmental Policy Act (NEPA) of 1969 and regulations implemented by the Council on Environmental Quality (40 CFR parts 1500-1508), and Presidential Executive Order 12114, the Department of the Navy (Navy) has prepared and filed with the U.S. Environmental Protection Agency a Draft Environmental Impact Statement/Overseas Environmental Impact Statement (EIS/OEIS) on March 27, 2008, to evaluate the potential environmental effects associated with the Naval Surface Warfare Center, Panama City Division (NSWC PCD) mission activities within the NSWC PCD Study Area, which includes St. Andrew Bay (SAB), and military warning areas W-151 (includes Panama City Operating Area), W-155 (includes Pensacola Operating Area), and W-470.

The Proposed Action is to improve NSWC PCD's capabilities to conduct new and increased mission operations for the Department of Defense (DoD) and its customers within the NSWC PCD Study Area. The research, development, test, and evaluation (RDT&E) activities occurring in these areas include air operations, surface operations, subsurface operations, sonar operations, electromagnetic operations, laser operations, ordnance operations, and projectile firing. A Notice of Intent for this Draft EIS/OEIS was published in the Federal Register on August 19, 2004 (69 FR 51453).

The Navy will conduct three public hearings to receive oral and written comments on the Draft EIS/OEIS. Federal agencies, state agencies, and local agencies and interested individuals are invited to be present or represented at the public hearings. This notice announces the dates and locations of the public hearings for this Draft EIS/OEIS.

Dates and Addresses: An open house session will precede the scheduled public hearing at each of the locations listed below and will allow individuals to review the information presented in the Draft EIS/OEIS. Navy representatives will be available during the open house sessions to clarify information related to the Draft EIS/OEIS.

In addition, the National Marine Fisheries Service (NMFS), which is participating as a cooperating agency in the development of the EIS, will be represented at the open houses and public hearings. All meetings will start with an open house from 6 p.m. to 7 p.m. Presentations and public comment will be held from 7 p.m. to 9 p.m. Public hearings will be held on the following dates and at the following locations:

1. May 5, 2008, Gulf Coast Community College, Student Union Conference Center, 5230 West Hwy 98, Panama City, Florida,

2. May 6, 2008, Pensacola Junior College—Warrington Campus, McMillian Auditorium, 5555 Highway 98 West, Pensacola, Florida,

3. May 7, 2008, Port St. Joe Elementary School Auditorium, 2201 Long Avenue, Port St. Joe, Florida.

FOR FURTHER INFORMATION CONTACT: Mrs. Carmen Ferrer, Naval Surface Warfare Center Panama City Division, 110 Vernon Avenue, Panama City, Florida 32407; telephone: 850-234-4146; E-mail carmen.ferrer@navy.mil.

SUPPLEMENTARY INFORMATION: NSWC PCD is the United States (U.S.) Navy's premier research and development organization focused on littoral (coastal region) warfare and expeditionary (designed for military operations abroad) warfare. NSWC PCD provides in-water research, development, test, and evaluation (RDT&E) in support of expeditionary maneuver warfare, operations in extreme environments, mine warfare, maritime operations, and coastal operations.

NSWC PCD is the nation's principal repository of this expertise supported by a diverse technical workforce in these areas that are critical to the future of U.S. Navy and U.S. Marine Corps operations. In accordance with Department of Defense (DoD) Directive 5000.1, test and evaluation support is to be integrated throughout the defense acquisition process (the process that encompasses every aspect of identifying, developing, and procuring defense systems) and is structured to provide essential information to decision makers. Such testing is used to validate the technical performance parameters (whether a given system performs as expected) and to determine whether systems are operationally effective, suitable, survivable, and safe for their intended use.

It is the mission of NSWC PCD to provide RDT&E, as well as in-service support for amphibious warfare, diving, maritime special operations, mine warfare (mines and mine countermeasures), and other naval missions that take place in the coastal region. The infrastructure has been established at NSWC PCD to support this mission. A unique feature of NSWC PCD that is unduplicated in the U.S. is the natural operating environment provided by the ready access to the Gulf of Mexico (GOM) and its associated littoral and coastal regions. The GOM provides a surrogate environment for most of the littoral areas of the world in which the Navy will find itself operating for the foreseeable future.

The NSWC PCD Draft EIS/OEIS addresses all of the identified RDT&E operations that occur within the NSWC PCD Study Area. The NSWC PCD RDT&E activities may be conducted anywhere within the existing military operating areas and St. Andrews Bay from the mean high water line (average high tide mark) out to 222 kilometer (120 nautical miles) offshore.

The Draft EIS/OEIS evaluates the potential environmental impacts of three alternatives, including two action alternatives (Alternatives 1 and 2) and the No Action Alternative. The No Action Alternative addresses historical and current mission activities (referred to cumulatively as “baseline mission activities”) for the NSWC PCD Study Area. Alternatives 1 and 2 analyze baseline activities, as well as future growth requirements for missions and activity levels. The development process incorporated the need to support future test capabilities, expand required mission capabilities, and increase the baseline tempo and intensity of activities. Alternative 2 is the Navy's preferred alternative.

No significant adverse impacts are identified for any resource area in any geographic location within the NSWC PCD Study Area that cannot be mitigated, with the exception of exposure of marine mammals and sea turtles to underwater sound. The Navy will apply to NMFS for a Marine Mammal Protection Act Letter of Authorization (LOA) and governing regulations to authorize incidental takes of marine mammals that may result from the implementation of the activities analyzed in the Draft EIS/OEIS. NMFS is participating as a cooperating agency in the development of this Draft EIS/OEIS. NMFS staff will be present at the scheduled open houses and public hearings and available to discuss both the MMPA incidental take authorization process and NMFS's participation in the development of the EIS/OEIS.

The Draft EIS/OEIS is being mailed to Federal, State, and local agencies, elected officials, and other interested individuals and organizations. The public comment period will end May 19, 2008.

Copies of the Draft EIS/OEIS are available for public review at the following libraries: Bay County Public Library, 25 West Government Street, Panama City, FL 32401; Gulf County Public Library, 110 Library Drive, Port St. Joe, FL 32456; Fort Walton Beach Public Library, 185 Miracle Strip Pkwy SE, Fort Walton Beach, FL 32548; and Pensacola Public Library, 200 West Gregory Street Pensacola, FL 32501.

The Draft EIS/OEIS is also available for electronic public viewing at http://nswcpc.navsea.navy.mil/Environment.htm. A paper copy of the Executive Summary or a single CD of the Draft EIS/OEIS will be made available upon request by contacting Mrs. Carmen Ferrer, Naval Surface Warfare Center Panama City Division, 110 Vernon Avenue, Panama City, Florida 32407; E-mail: carmen.ferrer@navy.mil.

Federal, State, and local agencies and interested parties are invited to be present or represented at the public hearing. Written comments can also be submitted during the open house sessions preceding the public hearings. Oral statements will be heard and transcribed by a stenographer; however, to ensure the accuracy of the record, all statements should be submitted in writing. All statements, both oral and written, will become part of the public record on the Draft EIS/OEIS and will be responded to in the Final EIS/OEIS. Equal weight will be given to both oral and written statements.

In the interest of available time, and to ensure all who wish to give an oral statement have the opportunity to do so, each speaker's comments will be limited to three (3) minutes. If a long statement is to be presented, it should be summarized at the public hearing and the full text submitted in writing at the hearing, mailed to Mrs. Carmen Ferrer, Naval Surface Warfare Center Panama City Division, 110 Vernon Avenue, Panama City, Florida 32407 or submitted via e-mail to nswcpcpaowebmanager@navy.mil.

All written comments must be postmarked or received by May 19, 2008, to ensure they become part of the official record. All comments will be responded to in the Final EIS/OEIS.

Dated: April 3, 2008.
T. M. Cruz,
Lieutenant, Judge Advocate General's Corps, U.S. Navy, Federal Register Liaison Officer.

[FR Doc. E8-7461 Filed 4-8-08; 8:45 am]

BILLING CODE 3810-FF-P